DEPARTMENT OF THE TREASURY

Submission for OMB Review; Comment Request

June 25, 2001.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 8, 2001 to be assured of consideration.

Bureau of the Public Debt (PD)

OMB Number: 1535-0069.

Form Number: PD F 5178, 5179, 5179-1, 5180, 5181, 5182, 5188, 5189, 5191, 5201, 5235, 5236, 5261, 5365, and 5381.

Type of Review: Extension.

Title: Treasury Direct Forms.

Description: The forms are used to purchase and maintain Treasury Bills, Notes, and Bonds.

Respondents: Individuals or households.

Estimated Number of Respondents: 431,632.

Estimated Burden Hours Per Respondent:

Form | Response time (minutes)
PD F 5178 | 10
PD F 5179 | 10
PD F 5179-1 | 10
PD F 5180 | 10
PD F 5181 | 5
PD F 5182 | 10
PD F 5188 | 10
PD F 5189 | 10
PD F 5191 | 10
PD F 5201 | 10
PD F 5235 | 10
PD F 5236 | 30
PD F 5261 | 6
PD F 5365 | 10
PD F 5381 | 10

Frequency of Response: On occasion.

Estimated Total Reporting Burden Hours: 58,628 hours.

OMB Number: 1535-0122.

Form Number: None.

Type of Review: Extension.

Title: Voluntary Customer Satisfaction Survey to Implement Executive Order 12862.

Description: This voluntary customer service survey, as mandated by Executive Order 12862, measures customer satisfaction.

Respondents: Individuals or households.

Estimated Number of Respondents: 7,000.

Estimated Burden Hours Per Respondent: Varies.

Frequency of Response: On occasion.

Estimated Total Reporting Burden Hours: 876 hours.

Clearance Officer: Vicki S. Thorpe (304) 480-6553, Bureau of the Public Debt, 200 Third Street, Parkersburg, West VA 26106-1328.

OMB Reviewer: Alexander T. Hunt (202) 395-7860, Office of Management and Budget, Room 10226, New Executive Office Building, Washington, DC 20503.

Lois K. Holland,
Departmental Reports, Management Officer.

[FR Doc. 01-17080 Filed 7-6-01; 8:45 am]

BILLING CODE 4810-40-P